FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than January 6, 2010.

A. Federal Reserve Bank of Dallas (E. Ann Worthy, Vice President) 2200 North Pearl Street, Dallas, Texas 75201-2272:

1. Clary Anthony Family Irrevocable Trust No. 101; Lynda June Anthony, both of Shreveport, Louisiana; Luther Clary Anthony, Jr., Atlanta, Texas, Co Trustees; Lynda June Anthony, Shreveport, Louisiana; Luther Clary Anthony, Jr., Atlanta, Texas; and Luther Clary Anthony Sr., Springhill, Louisiana, individually, to retain voting shares of and acquire additional shares of Citizens Bankshares of Springhill, Inc., and thereby indirectly retain and acquire additional voting shares of Citizens Bank & Trust Company, both of Springhill, Louisiana.

Board of Governors of the Federal Reserve System, December 17, 2009.
Robert deV. Frierson,
Deputy Secretary of the Board.

[FR Doc. E9-30362 Filed 12-21-09; 8:45 am]

BILLING CODE 6210-01-S